MERIT SYSTEMS PROTECTION BOARD

Oral Argument

AGENCY: Merit Systems Protection Board.

ACTION: Notice.

SUMMARY: Notice is hereby given of the scheduling of oral argument in the matters of Rhonda K. Conyers v. Department of Defense, MSPB Docket No. CH-0752-09-0925-I-1, and Devon H. Northover v. Department of Defense, MSPB Docket No. AT-0752-10-0184-I-1.

Date and Time: Tuesday, September 21, 2010, at 10 a.m.

Place: The United States Court of Appeals for the Federal Circuit, Room 201, 717 Madison Place, NW., Washington, DC.

Status: Open.

FOR FUTHER INFORMATION CONTACT: Matthew Shannon, Merit Systems Protection Board, Office of the Clerk of the Board, 1615 M Street, NW., Washington, DC 20419; (202) 653-7200; mspb@mspb.gov.

SUPPLEMENTARY INFORMATION: Pursuant to 5 CFR 1201.117(a)(2), the Merit Systems Protection Board (“MSPB” or “Board”) will hear oral argument in the matters of Rhonda K. Conyers v. Department of Defense, MSPB Docket No. CH-0752-09-0925-I-1, and Devon Northover v. Department of Defense, MSPB Docket No. AT-0752-10-0184-I-1. Conyers and Northover raise the question of whether, pursuant to 5 CFR part 732, the rule in Department of the Navy v. Egan, 484 U.S. 518, 530-31 (1988), limiting the scope of MSPB review of an adverse action based on the revocation of a security clearance, also applies to an adverse action involving an employee in a “non-critical sensitive” position due to the employee having been denied continued eligibility for employment in a sensitive position. The Board requested and received an advisory brief from the Office of Personnel Management (OPM) in this matter, see 5 U.S.C. 1204(e)(1)(A), and the Board invited amicus curiae to submit briefs. See 75 FR 6728, Feb. 10, 2010. The parties, OPM, and the amici curiae will be allotted time at the hearing to present oral argument in this matter. The briefs submitted by the parties, OPM, and the amici curiae are available for viewing on the MSPB's Web site at http://www.mspb.gov. A recording of the oral argument will also be made available on the MSPB's Web site. The public is welcome to attend this hearing for the sole purpose of observation. Any person attending this oral argument who requires special accessibility features, such as sign language interpretation, must inform MSPB of those needs in advance.

William D. Spencer,
Clerk of the Board.

[FR Doc. 2010-22921 Filed 9-14-10; 8:45 am]

BILLING CODE 7400-01-P